MILLENNIUM CHALLENGE CORPORATION

[MCC FR 13-01]

Millennium Challenge Corporation Board of Directors Meeting; Sunshine Act Meetings

AGENCY: Millennium Challenge Corporation.

TIME AND DATE: 10:00 a.m. to Noon, Thursday, March 14, 2013.

PLACE: Department of State, 2201 C Street NW., Washington, DC 20520.

FOR FURTHER INFORMATION CONTACT: Information on the meeting may be obtained from Melvin F. Williams, Jr., Vice President, General Counsel and Corporate Secretary via email at corporatesecretary@mcc.gov or by telephone at (202) 521-3600.

STATUS: Meeting will be closed to the public.

MATTERS TO BE CONSIDERED: The Board of Directors (the “Board”) of the Millennium Challenge Corporation (“MCC”) will hold a meeting to discuss the Honduras Threshold Program and the Suspension and Termination Policy. The agenda items are expected to involve the consideration of classified information and the meeting will be closed to the public.

Dated: February 27, 2013.
Melvin F. Williams, Jr.,
VP/General Counsel and Corporate Secretary, Millennium Challenge Corporation.

[FR Doc. 2013-04908 Filed 2-27-13; 4:15 pm]

BILLING CODE 9211-03-P